DEPARTMENT OF VETERANS AFFAIRS

[OMB Control No. 2900-0523]

Agency Information Collection (Loan Analysis) Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before March 1, 2013.

ADDRESSES: Submit written comments on the collection of information through www.Regulations.gov or to VA's OMB Desk Officer, OMB Human Resources and Housing Branch, New Executive Office Building, Room 10235, Washington, DC 20503 (202) 395-7316. Please refer to “OMB Control No. 2900-0523” in any correspondence.

FOR FURTHER INFORMATION CONTACT: Crystal Rennie, Records Management Service (005R1B), Department of Veterans Affairs, 810 Vermont Avenue NW., Washington, DC 20420, (202) 632-7492, FAX (202) 632-7583 or email denise.mclamb@mail.va.gov. Please refer to “OMB Control No. 2900-0523.”

SUPPLEMENTARY INFORMATION: Title: Loan Analysis, VA Form 26-6393.

OMB Control Number: 2900-0523.

Type of Review: Extension of a currently approved collection.

Abstract: VA Form 26-6393 is used to determine a veteran-borrower qualification for a VA-guaranteed loan. Lenders complete and submit the form to provide evidence of their decision to submit a prior approval loan application or close a loan on the automatic basis is based upon appropriate application of VA credit standards.

An agency may not conduct or sponsor, and a person is not required to respond to a collection of information unless it displays a currently valid OMB control number. The Federal Register Notice with a 60-day comment period soliciting comments on this collection of information was published on October 19, 2012, at pages 64385-64286.

Affected Public: Federal Government.

Estimated Annual Burden: 62,500 hours.

Estimated Average Burden per Respondent: 15 minutes.

Frequency of Response: On occasion.

Estimated Number of Respondents: 250,000.

Dated: January 24, 2013.
By direction of the Secretary.
William F. Russo,
Deputy Director, Office of Regulations Policy and Management, Office of General Counsel, Department of Veterans Affairs.

[FR Doc. 2013-01946 Filed 1-29-13; 8:45 am]

BILLING CODE 8320-01-P